DEPARTMENT OF COMMERCE

Bureau of the Census

[Docket Number 030527134-3134-01]

Proposed Data Sharing Activity

AGENCY: Bureau of the Census, Department of Commerce.

ACTION: Notice and request for public comment.

SUMMARY: The Bureau of the Census (Census Bureau) conducts the Survey of Industrial Research and Development (R&D). The National Science Foundation (NSF) provides the funding for this data collection. The Census Bureau proposes to provide data collected from the 1997 and 1999 R&D surveys to the Bureau of Economic Analysis (BEA) for statistical purposes exclusively. In accordance with the requirement of Section 524(d) of the Confidential Information Protection and Statistical Efficiency Act of 2002 (CIPSEA), we are providing the opportunity for public comment on this data-sharing action. Through the use of these shared data, the BEA will augment its existing R&D-related data, identify data quality issues arising from reporting differences in the BEA and Census Bureau surveys, and improve its survey sample frames. The NSF will be provided non-confidential aggregate data (public use) and reports that have cleared Census Bureau disclosure review. Disclosure review is a process conducted to verify that the data to be released do not reveal any confidential information.

DATES: Written comments must be submitted on or before August 4, 2003.

ADDRESSES: Please direct all written comments on this proposed program to the Director, U.S. Census Bureau, 4700 Silver Hill Road, Washington, DC 20233-0100.

FOR FURTHER INFORMATION CONTACT: Requests for additional information on this proposed program should be directed to Kimberly Moore, Assistant Division Chief for Special Studies and M3 Programs, Manufacturing and Construction Division, U.S. Census Bureau, 4700 Silver Hill Road, Washington, DC 20233-6900, by phone on (301) 763-7643 or by fax (301) 457-4583.

SUPPLEMENTARY INFORMATION:

Background

CIPSEA (Pub. L. 107-347, Subtitle V) allows the Census Bureau and the BEA to share certain business data for exclusively statistical purposes. Section 524(d) of the Act requires a Federal Register notice announcing the intent to share data (allowing 60 days for public comment).

Section 524(d) also requires us to provide information about the terms of the agreement for data sharing. For purposes of this notice, the Census Bureau has decided to group these terms by three categories. The categories are:

• Shared data

• Statistical purposes for the shared data

• Data access and confidentiality

Shared Data

The Census Bureau proposes to provide the BEA with data collected from the 1997 and 1999 Surveys of Industrial Research and Development (R&D). The agreement also calls for the BEA to share data from its 1997 Foreign Direct Investment in the United States and 1999 U.S. Direct Investment Abroad surveys with the Census Bureau. In the future, the BEA will issue a separate notice addressing this issue.

The BEA will use these data for statistical purposes exclusively. Through record linkage, the BEA will augment its existing R&D-related data, identify data quality issues arising from reporting differences in the BEA and Census Bureau surveys, and improve its survey sample frames.

Statistical Purposes for the Shared Data

The data collected from the Survey of Industrial Research and Development (R&D) estimate the expenditures of research and development performed by United States-based industrial firms. The survey is conducted annually; however, the proposed data to be shared are from the 1997 and 1999 surveys only. Statistics from the annual surveys are published in the NSF's annual publication series “Research and Development in Industry.” Data collected by this survey include company characteristics and R&D spending information. Characteristics data include net sales, total employment, and employment of scientists and engineers. R&D spending data include the following: total spending; federally funded (total and by agency) spending for basic and applied R&D, for basic research by field, and for applied R&D by product group and energy and pollution abatement activities; R&D spending by state; and R&D financed by domestic firms but performed abroad. All data are collected under Sections 131, 182, 224, and 225 of Title 13, United States Code (U.S.C.).

Data Access and Confidentiality

Title 13, U.S.C., protects the confidentiality of these data. The data may be seen only by persons sworn to uphold the confidentiality of the information. Access to the shared data will be restricted to specifically authorized personnel and will be provided for statistical purposes only. All BEA employees with access to these data will attain Census Bureau Special Sworn Status—meaning that they, under penalty of law, must uphold the data's confidentiality. Selected NSF employees will provide the BEA with expertise on the aspects of R&D performance in the United States and by U.S. companies abroad; these NSF consultants assisting with the work at the BEA also will attain Census Bureau Special Sworn Status. No confidential data will be provided to the NSF. To further safeguard the confidentiality of the data, the Census Bureau will conduct an Information Technology security review of the BEA prior to sharing any data files. Any results of this research are subject to Census Bureau disclosure protection.

Dated: May 28, 2003.
Charles Louis Kincannon,
Director, Bureau of the Census.

[FR Doc. 03-13853 Filed 6-2-03; 8:45 am]

BILLING CODE 3510-07-P